DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: NOAA Coastal Services Center Coastal Resource Management Customer Survey.

Form Number(s): None.

OMB Approval Number: 0648-0308.

Type of Request: Regular submission.

Burden Hours: 250.

Number of Respondents: 500

Average Hours Per Response: 30 minutes.

Needs and Uses: This survey will be used by the NOAA Coastal Services Center to obtain information from our customers about their natural resource management issues, their information needs, and their technological capabilities in order to make quality improvements to our products and services. The respondents will be from the coastal natural resource management community.

Affected Public: State, Local or Tribal government, Federal government.

Frequency: One time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: January 26, 2006.
Gwellnar Banks,
Management Analyst, Office of the Chief Information Officer.

[FR Doc. E6-1301 Filed 1-31-06; 8:45 am]

BILLING CODE 3510-08-P